DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them. The vessels placed on the SDN List have been identified as property in which a blocked person has an interest.

DATES: This action was issued on May 8, 2025. See Supplementary Information for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On May 8, 2025, OFAC determined that the property and interests in property subject to U.S. jurisdiction of the following persons are blocked under the relevant sanctions authority listed below.

Entities

Individuals

On May 8, 2025, OFAC also identified the following vessels as property in which a blocked person has an interest under the relevant sanctions authority listed below.

Vessels:

1. IMPALAS (S9Z4) Crude Oil Tanker Sao Tome & Principe flag; Vessel Year of Build 1999; Vessel Registration Identification IMO 9171448; MMSI 668116257 (vessel) [IRAN-EO13902] (Linked To: EMBRACE QUE LIMITED).

Identified as property in which EMBRACE QUE LIMITED, a person whose property and interests in property are blocked pursuant to E.O. 13902, has an interest.

2. THANE (T7BR8) Crude Oil Tanker San Marino flag; Vessel Year of Build 2002; Vessel Registration Identification IMO 9237228; MMSI 268246702 (vessel) [IRAN-EO13902] (Linked To: NISSHO LINES INCORPORATED).

Identified as property in which NISSHO LINES INCORPORATED, a person whose property and interests in property are blocked pursuant to E.O. 13902, has an interest.

3. STAR TWINKLE 6 (3E5173) Crude Oil Tanker Panama flag; Vessel Year of Build 2004; Vessel Registration Identification IMO 9256987; MMSI 352003519 (vessel) [IRAN-EO13902] (Linked To: STAR TWINKLE SHIPPING LIMITED).

Identified as property in which STAR TWINKLE SHIPPING LIMITED, a person whose property and interests in property are blocked pursuant to E.O. 13902, has an interest.

4. LAMD (a.k.a. TAI HE) (3E6106) Crude Oil Tanker Panama flag; Vessel Year of Build 2007; Vessel Registration Identification IMO 9320843; MMSI 352003859 (vessel) [IRAN-EO13902] (Linked To: HONG KONG PRIME TRADING CO., LIMITED).

Identified as property in which HONG KONG PRIME TRADING CO., LIMITED, a person whose property and interests in property are blocked pursuant to E.O. 13902, has an interest.

5. SKADI (HPPN) Crude Oil Tanker Panama flag; Vessel Year of Build 2001; Vessel Registration Identification IMO 9230971; MMSI 352421000 (vessel) [IRAN-EO13902] (Linked To: SKADI LIMITED).

Identified as property in which SKADI LIMITED, a person whose property and interests in property are blocked pursuant to E.O. 13902, has an interest.

6. BIG MAG (HORS) Crude Oil Tanker Panama flag; Vessel Year of Build 2002; Vessel Registration Identification IMO 9263215; MMSI 356336000 (vessel) [IRAN-EO13902] (Linked To: PROPITIOUS FOREVER TRADING CO LTD).

Identified as property in which PROPITIOUS FOREVER TRADING CO LTD, a person whose property and interests in property are blocked pursuant to E.O. 13902, has an interest.

Lisa M. Palluconi,
Acting Director, Office of Foreign Assets Control.

[FR Doc. 2025-10808 Filed 6-12-25; 8:45 am]

BILLING CODE 4810-AL-P